DEPARTMENT OF HOMELAND SECURITY

Coast Guard

33 CFR Part 100

[CGD05-03-132]

RIN 1625-AA08

Special Local Regulations for Marine Events; Spa Creek, Annapolis, MD

AGENCY: Coast Guard, DHS.

ACTION: Notice of proposed rulemaking; correction.

SUMMARY: On October 10, 2003, the Coast Guard published a notice of proposed rulemaking in the Federal Register that requested comments on a proposed temporary special local regulation during the “International Tug-of-War”, a marine event to be held November 8, 2003, over the waters of Spa Creek between Eastport and Annapolis, Maryland. This document contains a correction to the date in the Dates section of that notice of proposed rulemaking.

DATES: This correction is effective October 30, 2003. The comment period for the proposed temporary rule ends October 30, 2003.

ADDRESSES: You may mail comments and related material to Commander (oax), Fifth Coast Guard District, 431 Crawford Street, Portsmouth, Virginia 23704-5004, hand-deliver them to Room 119 at the same address between 9 a.m. and 2 p.m., Monday through Friday, except Federal holidays, or fax them to (757) 398-6203. The Auxiliary and Recreational Boating Safety Branch, Fifth Coast Guard District, maintains the public docket for this rulemaking. Comments and material received from the public, as well as documents indicated in this preamble as being available in the docket, will become part of this docket and will be available for inspection or copying at the above address between 9 a.m. and 2 p.m., Monday through Friday, except Federal holidays.

FOR FURTHER INFORMATION CONTACT: S.L. Phillips, Project Manager, Auxiliary and Recreational Boating Safety Branch, at (757) 398-6204.

SUPPLEMENTARY INFORMATION: On October 10, 2003, the Coast Guard published a notice of proposed rulemaking entitled “Special Local Regulations for Marine Events; Spa Creek, Annapolis, MD” in the Federal Register (68 FR 58640). While the preamble referred to a 20-day comment period (68 FR 58640) and the event was described as being scheduled for November 8, 2003 (68 FR 58641), the date in the Dates section reflected a 30-day comment period. That date must now be corrected to reflect that comments are due on or before October 30, 2003.

In the notice of proposed rulemaking FR Doc. 03-25680 published on October 10, 2003 (68 FR 58640), make the following correction:

On page 58640, in the third column, on line 6, correct “November 10” to read “October 30”.

Dated: October 17, 2003.
Ben R. Thomason, III,
Captain, Coast Guard, Acting Commander, Fifth Coast Guard District.

[FR Doc. 03-27287 Filed 10-29-03; 8:45 am]

BILLING CODE 4910-15-P